DEPARTMENT OF ENERGY

Federal Energy Regulatory Commission

[P-619-167]

Pacific Gas and Electric Company, City of Santa Clara, California; Notice of Application Accepted for Filing and Soliciting Comments, Motions To Intervene, and Protests

Take notice that the following hydroelectric application has been filed with the Commission and is available for public inspection.

a. Type of Application: Temporary variance of required minimum streamflows and reservoir elevation.

b. Project No.: 619-167.

c. Date Filed: December 11, 2019.

d. Applicants: Pacific Gas and Electric Company and the City of Santa Clara, California.

e. Name of Project: Bucks Creek Hydroelectric Project.

f. Location: The project is located on the North Fork Feather River and Bucks and Grizzly creeks in Plumas County, California.

g. Filed Pursuant to: Federal Power Act, 16 U.S.C. 791(a)-825(r).

h. Applicant Contact: Jamie Visinoni, 245 Market Street, San Francisco, CA 94105, 530-894-4779.

i. FERC Contact: Mr. Steven Sachs, (202) 502-8666, Steven.Sachs@ferc.gov.

j. Deadline for filing comments, motions to intervene, and protests is 30 days from the issuance of this notice by the Commission. The Commission strongly encourages electronic filing. Please file comments, motions to intervene, and protests using the Commission's eFiling system at http://www.ferc.gov/docs-filing/efiling.asp. Commenters can submit brief comments up to 6,000 characters, without prior registration, using the eComment system at http://www.ferc.gov/doc-sfiling/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-619-167.

The Commission's Rules of Practice and Procedure require all intervenors filing documents with the Commission to serve a copy of that document on each person on the official service list for the project. Further, if an intervenor files comments or documents with the Commission relating to the merits of an issue that may affect the responsibilities of a particular resource agency, they must also serve a copy of the document on that resource agency.

k. Description of Request: The applicants request a temporary variance to reduce the required minimum flow in Bucks Creek below Lower Bucks Lake from 8 to 6 cubic feet per second (cfs) during the month of June 2020, and to pass only natural streamflow into the Grizzly Creek below Grizzly Forebay from July 1 through November 1, 2020, which may drop below the required minimum flow of 6 cfs. The applicants also request to temporarily modify the minimum flow requirements such that compliance would be determined by calculating the average of all daily flow measurements rather than complying with instantaneous measurements. The applicants propose to implement the daily average compliance protocols for the Bucks Creek streamflow from May 1 through November 1, 2020, and for the Grizzly Creek requirement from July 1 through November 1, 2020. Additionally, the applicants propose to dewater Lower Bucks Lake, taking it below its minimum required elevation of 4,966 feet from May 1 through November 1, 2020. The applicants state the variances are necessary to facilitate repairs and maintenance at the Lower Bucks dam and Grizzly forebay.

l. Locations of the Applications: A copy of the application is available for inspection and reproduction at the Commission's Public Reference Room, located at 888 First Street NE, Room 2A, Washington, DC 20426, or by calling (202) 502-8371. The filing may also be viewed on the Commission's website at http://www.ferc.gov/docs-filing/elibrary.asp. Enter the docket number excluding the last three digits in the docket number field to access the document. You may also register online at http://www.ferc.gov/docs-filing/esubscription.asp to be notified via email of new filings and issuances related to this or other pending projects. For assistance, call 1-866-208-3676 or email FERCOnlineSupport@ferc.gov, for TTY, call (202) 502-8659. A copy is also available for inspection and reproduction at the address in item (h) above.

m. Individuals desiring to be included on the Commission's mailing list should so indicate by writing to the Secretary of the Commission.

n. Comments, Motions to Intervene, or Protests: Anyone may submit comments, a motion to intervene, or a protest in accordance with the requirements of Rules of Practice and Procedure, 18 CFR 385.210, .211, .214. In determining the appropriate action to take, the Commission will consider all protests or other comments filed, but only those who file a motion to intervene in accordance with the Commission's Rules may become a party to the proceeding. Any comments, motions to intervene, or protests must be received on or before the specified comment date for the particular application.

o. Filing and Service of Responsive Documents: Any filing must (1) bear in all capital letters the title COMMENTS, MOTION TO INTERVENE, or PROTEST as applicable; (2) set forth in the heading the name of the applicant(s) and the project number(s) of the application to which the filing responds; (3) furnish the name, address, and telephone number of the person intervening or protesting; and (4) otherwise comply with the requirements of 18 CFR 385.2001 through 385.2005. All comments, motions to intervene, or protests must set forth their evidentiary basis. A copy of all other filings in reference to this application must be accompanied by proof of service on all persons listed in the service list prepared by the Commission in this proceeding, in accordance with 18 CFR 385.2010.

Dated: January 30, 2020.
Kimberly D. Bose,
Secretary.

[FR Doc. 2020-02285 Filed 2-5-20; 8:45 am]

BILLING CODE 6717-01-P